DEPARTMENT OF ENERGY

Western Area Power Administration

San Luis Rio Colorado Project (DOE/EIS-0395)

AGENCY: Western Area Power Administration, DOE.

ACTION: Notice of Record of Decision and Floodplain Statement of Findings.

SUMMARY: The Department of Energy (DOE) received applications from North Branch Resources, LLC (NBR) and Generadora del Desierto, S.A. de C.V. (GDD) to construct the proposed San Luis Rio Colorado Project in Yuma County, Arizona. NBR and GDD (collectively termed the Applicants) are each wholly owned subsidiaries of North Branch Holding, LLC. GDD applied to Office of Electricity Delivery and Energy Reliability (OE), an organizational unit within DOE, for a Presidential permit to construct, connect, operate, and maintain a double-circuit 500,000-volt (500-kilovolt [kV]) electric transmission line across the United States-Mexico international border. NBR submitted a request to Western Area Power Administration (Western), another organizational unit within DOE, to interconnect the double-circuit 500-kV electric transmission line to Western's existing Gila Substation. The Applicants proposed that Western construct, own, operate, and maintain the transmission components within the United States at the Applicants' expense. Western's decision is to allow the Applicants to interconnect with its transmission system at Gila Substation, and to construct the Agency Preferred Alternative upon completion of Western's Large Generator Interconnection Procedures (LGIP) process. Accordingly, Western intends to enter into interconnection and construction agreements with NBR, and to construct, own, operate, and maintain the transmission system additions in the United States that would allow the interconnection.

FOR FURTHER INFORMATION CONTACT: Mr. John Holt, Environmental Manager, Desert Southwest Customer Service Region, Western Area Power Administration, P.O. Box 6457, Phoenix, AZ 85005, telephone (602) 605-2592; e-mail holt@wapa.gov. Copies of the EIS are available from Mr. Holt. For information about the DOE National Environmental Policy Act (NEPA) process, contact Ms. Carol M. Borgstrom, Director, Office of NEPA Policy and Compliance, GC-20, U.S. Department of Energy, 1000 Independence Avenue, SW., Washington, DC 20585, telephone (800) 472-2756. For information on the Presidential permit process, contact Dr. Jerry Pell, Office of Electricity Delivery and Energy Reliability, OE-20, U.S. Department of Energy, 1000 Independence Avenue, SW., Washington, DC 20585, telephone (202) 586-3362; e-mail jerry.pell@hq.doe.gov.

SUPPLEMENTARY INFORMATION: DOE received applications from NBR and GDD to construct the portions of the San Luis Rio Colorado Project located in Yuma County, Arizona. GDD applied to OE, an organizational unit within DOE, for a Presidential permit to construct, connect, operate, and maintain a double-circuit, 500-kV electric transmission line across the United States-Mexico international border. NBR submitted a request to Western, another organizational unit within DOE, to interconnect the double-circuit 500-kV electric transmission line to Western's existing Gila Substation. The Applicants propose that Western construct, own, operate, and maintain the transmission components within the United States at the Applicants' expense.

Western and OE are the lead agencies for the San Luis Rio Colorado Environmental Impact Statement (EIS). The U.S. Department of the Navy (Navy), acting through the U.S. Marine Corps Air Station Yuma; U.S. Bureau of Land Management, (BLM); U.S. Bureau of Reclamation (Reclamation); and the City of Yuma are cooperating agencies. DOE's OE has authority over the connection of the electric transmission line at the United States-Mexico international border and will issue a separate Record of Decision (ROD) for that decision. Reclamation and the Navy will also make decisions regarding the granting and use of rights-of-way (ROW) for the Proposed Project.

Alternatives Considered

Applicants' Proposed Action

The Applicants proposed that within the United States, Western would construct, own, operate, and maintain double-circuit 500-kV transmission components at the Applicants' expense. The transmission components under their proposal would consist of a double-circuit 500-kV transmission line between the Point of Change of Ownership near the international border and Western's existing Gila Substation; a 500/69-kV addition adjacent to the Gila Substation; and a double-circuit 500-kV transmission line between Gila Substation and Arizona Public Service's (APS') North Gila Substation. In addition, modifications would be made to APS' North Gila Substation based on an agreement between Western and APS and would remain under operational control of APS.

The Applicants proposed a transmission corridor that would commence at the international border near the Point of Change of Ownership located immediately north of the proposed San Luis Rio Colorado (SLRC) Power Center near the intersection of Avenue 1E and County 27th, then turn northeast to the intersection of Avenue 4E and County 24th. From the intersection of Avenue 4E and County 24th, the proposed corridor would proceed north parallel to Avenue 4E, the western boundary of the Barry M. Goldwater Range (BMGR), Western's existing Gila-Sonora Transmission Line, and a portion of the Area Service Highway (ASH) to a point north of County 19th. North of County 19th, the proposed transmission line corridor would proceed northeast roughly parallel to the ASH corridor across the northwestern portion of the BMGR. At Avenue 5½E, the proposed transmission line corridor would head north to the Yuma Mesa Irrigation and Drainage District's (YMIDDs) A Canal, then turn generally northeastward, parallel to the A Canal and Western's 69-kV transmission line, cross Interstate 8, and enter the west side of Gila Substation expansion area located north of the existing Gila Substation. Leaving the north side of Gila Substation, the proposed corridor would parallel the two existing transmission lines to the north, span the Gila River, and then turn northwest and into Arizona APS' North Gila Substation, still parallel to the existing transmission lines.

The Applicants' Proposed Action was not selected as the preferred alternative due to higher impacts on flat-tailed horned lizard habitat, increased engineering constraints, and increased impacts on residences as compared with the selected alternative.

Corridor Analysis

During the EIS process, Western took a broad look at the project area to determine if other viable and reasonable alternatives could be developed. Three regional corridors (West, Center, and East) were identified. These corridors were defined by two “no-go” areas—the City of Yuma high-density commercial and residential area and the adjacent Marine Corps Air Station Yuma/Yuma International Airport, and the Auxiliary Airfield No. 2 landing strip and approach zones on the BMGR. These two areas were not considered viable areas for routing a main transmission line because of unacceptably high human and environmental conflicts. The two areas defined a West Corridor, roughly parallel to the Colorado River and western Arizona-Mexico border, a Center Corridor east of Yuma and the airport and along the western boundary of the BMGR, and an East Corridor across the BMGR east of Auxiliary Airfield No. 2 and west of the Gila Mountains.

The West and East corridors were not found to be feasible. The West Corridor would result in a transmission line nearly twice as long as a Center Corridor option, with an attendant increase in environmental impacts based on length alone. The West Corridor would cross three times more irrigated cropland, impact a number of residences, and require two crossings of the Colorado River. Routing opportunities were severely constrained by residential and other development, including Yucca Powerplant and associated transmission lines, near the Colorado River west of the City of Yuma. Finally, the cost of constructing nearly twice as much transmission line, and of acquiring ROW, would make the Proposed Project economically infeasible.

The East Corridor would also be considerably longer, with associated increases in environmental impacts, and would be economically infeasible. Any transmission line located in the East Corridor would be wholly incompatible with military operations on the BMGR, and obtaining a permit from the Navy to construct a transmission line in this area would not be possible.

Western proceeded to develop alternatives to the Applicants' Proposed Action within the Center Corridor by identifying routing constraints and opportunities, balancing potential impacts, and considering public, stakeholder, and agency comments. A number of routing segments were developed and presented to the public for comment.

Route Alternative

The Route Alternative was developed by combining the routing segments that best utilized line routing opportunities, minimized environmental impacts, and considered public and agency comments received. The transmission system components would be identical to those of the Applicants' Proposed Action, but the transmission route was adjusted in response to information developed in the EIS process, comments, and potential issues identified with the Applicants' Proposed Action.

The Route Alternative would commence at the international border near the Point of Change of Ownership located immediately north of the proposed SLRC Power Center near the intersection of Avenue 1E and County 27th, the corridor would then turn northeast for approximately 1.5 miles to the existing Gila-Sonora Transmission Line, located near the intersection of Avenue 2½E and County 26½. From this location, the corridor would proceed north adjacent to the east side of the existing improved well field access road and Western's Gila-Sonora 69-kV transmission line toward the existing Sonora Substation. From Sonora Substation, the corridor would proceed northeast toward the intersection of Avenue 3E and County 23rd. From the intersection of Avenue 3E and County 23rd, the Route Alternative would proceed north adjacent to Avenue 3E to the intersection with County 19¼. From the intersection of Avenue 3E and County 19¼, the corridor would proceed northeast toward the intersection of Avenue 4E and County 18¾. From the intersection of Avenue 4E and County 18¾, the corridor would proceed northeast parallel to the ASH corridor to the intersection with the A Canal, at which point it would proceed northeast parallel to the A Canal and the Gila-Sonora Transmission Line, cross Interstate 8, and enter the Gila Substation from the west. The Route Alternative would require the same modifications to Gila Substation as the Applicants' Proposed Action. Leaving the north side of Gila Substation, the proposed corridor would parallel the existing transmission lines to the north, span the Gila River, and proceed to the point of intersection of the existing transmission lines and Avenue 9E. From the intersection of the existing transmission lines and Avenue 9E, the corridor would proceed north adjacent to Avenue 9E for approximately 0.5 miles, and then proceed west into APS' North Gila Substation. The Route Alternative would require the same modifications to North Gila Substation as the Applicants' Proposed Action.

Although the route identified in this alternative has fewer impacts than the Applicants' Proposed Action, this alternative was not selected in its entirety because it was determined that constructing the Proposed Project to 230-kV standards would meet the needs of the Proposed Project and result in less environmental impacts.

230-kV Alternative

The 230-kV Alternative was identified because it would meet the Proposed Project objectives for transporting electric power and creating additional transmission into the Yuma area, but would result in less environmental impacts than the Applicants' Proposed Action. Under the 230-kV Alternative, the transmission system components would be constructed to 230-kV standards as opposed to 500-kV. This alternative would require 25 percent less ROW area than that required for a project constructed to 500-kV, shorter and less massive structures than a project constructed to 500-kV, and substation modifications to 230-kV standards instead of 500-kV.

No Action Alternative

Under the No Action Alternative, Western would not approve an interconnection agreement; therefore, the proposed transmission lines, substation additions and modifications, and access roads within the United States would not be constructed, and the environmental impacts associated with their construction and operation would not occur.

Western believes that the selection of the No Action Alternative would not necessarily preclude development of the SLRC Power Center, as the Applicants could construct and operate interconnection transmission lines to a Comisión Federal de Electricidad (CFE) substation within Mexico, which would allow the SLRC Power Center to be constructed, maintained, and operated solely for the purpose of serving power needs within Mexico. In this scenario, impacts from the operation of the SLRC Power Center similar to those described in the EIS would occur in the United States. This scenario is not subject to United States regulation because all of the project-related activities would occur entirely within Mexico.

The No Action Alternative was not selected because it would not meet the needs defined in the EIS. The No Action Alternative would not have allowed Western to meet its obligations defined by its own Open Access Transmission Services Tariff, which was implemented to meet the intent of the Federal Energy Regulatory Commission (FERC) order to open transmission line access (FERC Order Nos. 888 and 888-A).

Agency Preferred Alternative

After reviewing impacts for each of the alternatives, DOE identified a combination of the Route Alternative and 230-kV Alternative as the Agency Preferred Alternative. With this approach, the Proposed Project would use the route from the Route Alternative as described in the EIS, and be constructed to 230-kV standards. This combined alternative is both the Environmentally Preferred and the Agency Preferred Alternative. The Agency Preferred Alternative would include:

1. A new 21.2-mile, double-circuit, 230-kV transmission line between a Point of Change of Ownership near the international border and Western's existing Gila Substation along the Route Alternative as defined in the EIS;

2. A new 230/69-kV addition adjacent to Gila Substation as identified in the 230-kV Alternative defined in the EIS;

3. A new 4.9-mile, double-circuit, 230-kV transmission line between Gila Substation and APS's North Gila Substation along the Route Alternative as defined in the EIS (the majority of this portion of the alignment will utilize a portion of existing ROW; Western anticipates that the existing double-circuit 69-kV line will be underbuilt);

4. Modifications to North Gila Substation necessary to interconnect the 230-kV transmission lines into the substation as identified in the 230-kV Alternative defined in the EIS (these modifications will be made through an agreement with APS); and

5. Associated access roads, as needed.

In addition to the transmission system additions located within the United States, the Proposed Project has other components that include the SLRC Power Center, natural gas pipelines, and electric transmission lines all located entirely within Mexico. Western does not have any jurisdiction over these components of the Proposed Project, as they are located entirely within Mexico. While the SLRC Power Center is not subject to the United States' regulatory requirements, Western evaluated impacts within the United States from its operation as part of the impact analysis and considered the environmental ramifications of the entire project in its decision making. Western has determined that the development of the Proposed Project components within Mexico will not have significant environmental impacts within the United States based on the analyses included in the EIS.

Additional comments were received during the Final EIS waiting period that expressed concerns about property values, visual impacts, lack of notification about the Proposed Project, and potential interference with AM and FM radio, television, and “ham” radio signal reception and transmission. Property value issues were fully addressed in the EIS; potential effects generally range from somewhat positive to a negative impact of up to 15 percent. Studies find that property value impacts can be quite different from case to case, and that perceptions of impacts on value vary depending on the individual. Further, the presence of a transmission line is generally not the major determining factor of property values, and any impact generally diminishes over time.

Visual impacts are also addressed in the EIS, and are closely linked to property value concerns. The Final EIS includes an entire underground construction study to address earlier comments to bury the proposed transmission line. Like perceptions of property value impacts, visual impacts are also highly variable depending on the individual. Western conducted a visual impact analysis using the BLM Visual Resource Management (VRM) system to determine the level of visual impact. The VRM system imposes a somewhat artificial structure on very subjective visual values, and looks at visual impacts from more of a societal view. The VRM system is the best and most widely accepted tool now available for impartial analysis of visual impacts. The analysis found that visual impacts would result from constructing the Proposed Project, but that they would not be significant. Western acknowledges that some residents will consider the impact of the Proposed Project on them to be significant.

Several comments were received from residents who had not previously heard about the project, and who felt they had not had the opportunity for meaningful input. Following the Notice of Intent (NOI), Western held 12 stakeholder meetings, four public scoping meetings, and two public hearings in the Proposed Project area. The public scoping meetings were announced in the Federal Register, paid advertisements in the Yuma Sun and Bajo el Sol, and direct newsletter/local NOI mailings in English and Spanish to the project mailing list. Additional paid advertisements and direct mailings announced the public hearings. In addition, the Yuma Sun published several articles, editorials, and letters to the editor about the Proposed Project during the EIS process. The project mailing list included landowners one-half mile from the centerline of all identified alternative routes, as identified from the county assessor records. The mailing list was updated as new mailings were prepared. While Western regrets that some residents feel they were not effectively involved, it believes that its public outreach effort was more than adequate.

Potential interference to radio and television reception was also addressed in the EIS. Most cases of interference are directly related to spark gap discharges due to loose, worn, or defective transmission line hardware. Western operates about 17,000 miles of transmission lines, and interference issues are rarely reported. In the unlikely event an interference problem is encountered, Western will work with the affected party to eliminate the interference.

Mitigation Measures

All measures identified in the EIS to minimize impacts from the transmission system additions have been adopted. Sections 2.1.1.8 and 2.1.1.9 of the Draft EIS list Western's standard mitigation measures and additional mitigation measures included as part of the proposed action. Some of Western's standard measures include restricting vehicular traffic to existing access roads or public roads, recontouring and reseeding disturbed areas, environmental awareness training for all construction and supervisory personnel, and mitigation of radio and television interference generated by transmission lines. Additional measures identified for the Proposed Project include mitigation methods for projects within flat-tailed horned lizard habitat and measures identified in the Arizona Administrative Code pertaining to fugitive dust control to be employed during transmission line construction.

Western is the lead Federal agency for compliance with section 106 of the National Historic Preservation Act. Western's preferred form of mitigation is to avoid all identified sites. To the extent possible, cultural sites determined eligible for the National Register in consultation with the Arizona State Historic Preservation Office and interested tribes will be avoided by Proposed Project activities. Cultural sites that cannot be avoided will be mitigated in accordance with the Programmatic Agreement (PA) developed for the Proposed Project, which will govern all remaining activities necessary for section 106 compliance.

Western is also the lead Federal agency for compliance with section 7 of the Endangered Species Act, as amended. A biological assessment was prepared and submitted to the U.S. Fish and Wildlife Service (USFWS) with a determination that the Proposed Project “may affect but is not likely to adversely affect” any candidate, proposed, or listed species. In a letter dated March 26, 2007, USFWS concurred with this determination.

Floodplain Statement of Findings

In accordance with 10 CFR part 1022, Western considered the potential impacts of the Proposed Project on floodplains and wetlands. The Proposed Project area is located in an arid region of low annual precipitation (less than 4 inches annually) with relatively low runoff potential, currently consisting primarily of open desert and agriculture interspersed with residences. Construction of the Proposed Project would not substantially alter the normal drainage patterns or affect runoff rates because the Proposed Project area does not typically experience runoff following a heavy rainfall due to the soils and geology of the area.

All transmission system alternatives, including the selected alternative, would traverse the 100-year floodplain of the Gila River. The Proposed Project will be designed to span the width of the 100-year floodplain; therefore, no new structures are expected to be placed within the Gila River channel or associated 100-year floodplain. Structures located adjacent to the floodplain would be constructed with additional concrete reinforcement around the footing to withstand potential flood flow-rates. The footings would not present a barrier to flood flows if they should exceed the 100-year floodplain and reach these locations. If, after final project design, additional new structures are needed in the floodplain, they will be designed to conform to applicable Federal, State, and local floodplain protection standards. No wetlands would be affected by the Proposed Project.

A Waters of the United States delineation and characterization survey was completed for the Proposed Project and the report was submitted to the U.S. Army Corps of Engineers (USACE) for review. In a letter dated March 1, 2007, USACE determined that “although the proposed project area does include jurisdictional waters, your proposed project does not discharge dredged or fill material into a water of the United States or adjacent wetland.” Therefore, the Proposed Project will not require a section 404 permit or a section 401 water quality certification.

Mitigation Action Plan

A Mitigation Action Plan will be developed in accordance with 10 CFR 1021.331 that addresses mitigation commitments described above. The Mitigation Action Plan will explain how the mitigation will be planned and implemented and will be available upon request.

Decision

Western's decision is to allow the Applicants to interconnect with its transmission system at Gila Substation, and to construct the Agency Preferred Alternative. Western intends to enter into interconnection and construction agreements with NBR, and to construct, own, operate, and maintain the transmission system additions in the United States that would allow the interconnection. The costs of constructing, operating, and maintaining the transmission system additions would be borne by the Applicants. However, execution of the interconnection and construction agreements will not occur until the completion of Western's Large Generator Interconnection Procedures (LGIP) process. This process, which is compliant with FERC orders, takes a proposed project through feasibility studies, system impact studies, and a facilities plan, ultimately leading to identification and apportionment of costs. Assuming Western and NBR agree on the level and distribution of costs and responsibilities during the LGIP process, execution of the interconnection and construction agreements will finalize the decision described in this ROD. If for some reason Western and NBR fail to reach an accord, the no action alternative will result.

This decision is based on the information contained in the San Luis Rio Colorado Project EIS (DOE/EIS-0395; Draft EIS issued October 2006, and Final issued July 2007). This ROD has been prepared in accordance with Council on Environmental Quality regulations for implementing NEPA (40 CFR parts 1500-1508) and DOE Procedures for Implementing NEPA (10 Code of Federal Regulations [CFR] part 1021), and DOE's Floodplain/Wetland Review Requirements (10 CFR part 1022). Full implementation of this decision is contingent upon the Proposed Project obtaining all other required permits and approvals.

Dated: October 3, 2007.
Timothy J. Meeks,
Administrator.

[FR Doc. E7-20179 Filed 10-11-07; 8:45 am]

BILLING CODE 6450-01-P